DEPARTMENT OF HEALTH AND HUMAN SERVICES

Office of the Secretary

Office of the Assistant Secretary for Health, Statement of Organization, Functions, and Delegations of Authority

Part A, Office of the Secretary, Statement of Organization, Function, and Delegation of Authority for the U.S. Department of Health and Human Services is being amended at Chapter AC, Office of the Assistant Secretary for Health (OASH), as last amended at 72 FR 58095-96, dated October 12, 2007; 69 FR 660-661, dated January 6, 2004; 68 FR 70507-10, dated December 18, 2003; 67 FR 71568-70, dated December 2, 2002; and most recently at 75 FR 53304-05, dated August 31, 2010. The amendment reflects the realignment of personnel oversight, administration and management functions for the U.S. Public Health Service (PHS) Commissioned Corps in the OASH. Specifically, it realigns these functions in the Office of the Surgeon General (ACM) and abolishes the Office of Commissioned Corps Force Management (ACQ). The changes are as follows:

I. Under Part A, Chapter AC, Office of the Assistant Secretary for Health, make the following changes:

A. Under Section AC.10 Organization, delete “L. Office of Commissioned Corps Force Management (ACQ),” in its entirety.

B. Under Section AC.20, Functions, delete Paragraph “I. Office of Surgeon General (ACM),” in its entirety and replace with the following:

I. Office of the Surgeon General (ACM)

Section ACM.00 Mission: The Office of the Surgeon General (OSG) is under the direction of the Surgeon General (SG) of the United States Public Health Service (PHS), who reports to the Assistant Secretary for Health (ASH) and provides staff support for: (1) Assuring day-to-day management of the PHS Commissioned Corps' operations, training, force readiness, and field command of deployments; (2) Issuing warnings to the public on identified health hazards; (3) Reviewing of the particulars of Department of Defense (DoD) plans for transportation, open air testing and disposal of lethal chemicals or biological warfare agents with respect to any hazards to public health and safety such transportation, testing, or disposal may pose and in recommending precautions necessary to protect the public health and safety (50 U.S.C. 1512 (2) & (3)); (4) Communicating with professional societies to receive, solicit, and channel concerns regarding health policy on behalf of the ASH; (5) Maintaining liaison with the Surgeons Generals of the Military Departments and the Under Secretary for Health of the Department of Veterans Affairs; (6) Representing PHS at national and international health and professional meetings to interpret PHS missions, policy, organizational responsibilities and programs, as assigned; (7) Maintaining and overseeing the activities of the Volunteer Medical Reserve Corps program (42 U.S.C. 300hh-15; (8) Providing liaison with governmental and non-governmental organizations on matters pertaining to military and veterans affairs. The Office provides staff support for: (9) Activities relating to membership on the Boards of Regents of the Uniformed Services University of the Health Sciences (per 10 U.S.C. 2113a(a)(3)) and other such positions as are authorized by law, further OASH's programmatic interests, and comply with Federal ethics, laws and regulations.

Section ACM.10 Organization: The OSG is comprised of the following components:

• Immediate Office of the Surgeon General (ACM)

• Division of Science and Communications (ACM1)

• Division of Commissioned Corps Personnel & Readiness (ACM2)

• Division of the Civilian Volunteer Medical Reserve Corps (ACM5)

• Division of Systems Integration (ACM6)

Section ACM.20 Functions:

(a) Immediate Office of the Surgeon General (ACM): (1) Advises the ASH on matters relating to protecting and advancing the public health of the Nation; (2) Manages special deployments that address Presidential and Secretarial initiatives directed toward resolving critical public health problems; (3) Serves, as requested, as the spokesperson on behalf of the Secretary and the ASH, addressing the quality of public health practice on the Nation; (4) Provides supervision of activities relating to the day-to-day management of operations, training, force readiness, and deployment of officers of the PHS Commissioned Corps; (5) Provides advice to the ASH on the policies and implementation related to the appointment, promotion, assimilation, recognition, professional development, retirement, and other matters required for the efficient management of the Commissioned Corps; (6) Provides liaison with governmental and non-governmental organizations on matters pertaining to military and veterans affairs; (7) Directs and oversees internal office administrative operations (including proposing office budgets); and (8) Convenes periodic meetings of the Assistant Surgeon Generals (flag officers) to obtain senior level advice concerning the management of Corps' operations.

(b) Division of Science and Communications (ACM1): (1) Coordinates activities to plan, develop, introduce and evaluate Surgeon General's Reports, Call to Action, workshops, and other authoritative statements and communications of the SG; (2) Advises the SG on science, data, evidence pertaining to population based public health and the furtherance of public health priorities; (3) Represents the SG in efforts to coordinate federal public health activities with similar activities in the States and local areas, as assigned; (4) Coordinates and is responsible for the preparation of SG correspondence, speeches and communications, as assigned; (5) Represents the SG at conferences, symposia, and community events; (6) Coordinates the receipt of senior-level advice and input from the Chief Professional Officers, the Surgeon General's Professional Advisory Council, and category-based Professional Advisory Committees, and conveys such advice and input to the SG; and (7) Provides administrative and management support to Public Health Reports.

(c) Division of Commissioned Corps Personnel and Readiness (ACM2) includes the following components:

• Immediate Office of the Director (ACM21)

• Recruitment Branch (ACM22)

• Assignments & Career Management Branch (ACM23)

• Ready Reserve Affairs Branch (ACM24)

1. Immediate Office of the Director (ACM21). (1) Provides overall management of Commissioned Corps personnel including active duty Regular Corps, Ready Reservists and of those issues and PHS processes pertinent to retired Corps officers; (2) Develops, issues, implements and maintains all personnel policy issuances and directives related to Corps operations, personnel, training, readiness, assignment, deployment, promotion, and retirement (including publication of such policy in the electronic Commissioned Corps Issuance System (eCCIS)); (3) Manages the process for disciplinary actions and decisions involving Corps officers; (4) Ensures the appropriate exercise of delegated Commissioned Corps authorities and responsibilities; (5) Establishes precepts for appointment, promotion, assimilation, retirement, fitness for duty, awards and commendations, discipline, grievance, and other such matters; (6) With respect to Board of Inquiry (BOI) disciplinary proceedings, ensures documentation of board proceedings, preparation of correspondence to applicants and officers, timely and accurate advice and assistance to Board members and other support as required; (7) Conducts force planning, including working with agencies, and advises OSG and ASH on Commissioned Corps strategic long-term readiness planning; (8) Maintains liaison with all other relevant Federal Services as appropriate, including with components of the Departments of Defense and Veterans Affairs; (9) Coordinates as appropriate to seek Departmental legal advice, assistance, and legislative support; (10) Advises the OSG on mission nature, size, duration and usage of Regular Corps and Ready Reserve officers; (11) Serves as a central point of contact and prepares necessary communications for all Corps Agency Liaison Offices; (12) Oversees the determination of fitness-for-duty and disability evaluations; administers the Servicemembers' Group Life Insurance and Traumatic Serviceman's Group Life Insurance Programs; and oversees Line of Duty determinations of the evaluation and issuance of medical waivers; (13) Serve as the principal advisor to the SG on activities and policy related to preparedness, Corps activation, training, deployment operations and total force fitness of the Corps; (14) Manages the Corps readiness and response activities to include establishing, maintaining and ensuring compliance with force readiness standards; ensuring that members of the Corps are trained, equipped and otherwise prepared to fulfill their public health and emergency response roles; and managing the timely, effective and appropriate response to urgent or emergency public health care needs; and (15) Conducts after action assessments and evaluations for the SG and ASH pertaining to the use of the Corps for deployment and other non-routine use of officers.

2. Recruitment Branch (ACM22).

(1) Implements programs to recruit new health professionals to the Regular and Ready Reserve Corps components, including the management of an Associate Recruiter Program; and (2) Develops recruitment strategies, programs, materials, and other resource to market and/or promote the use of the Corps for specific programs.

3. Assignments & Career Management Branch (ACM23).

(1) Addresses short- and long-term force management of Corps officers by assessing placement requirements in conventional and emergency response assignments, including the issuance of personnel orders; (2) Provides force management by identifying and categorizing types of assignments for which Regular and Ready Reserve Corps officers are required; (3) Develops, evaluates and grades personnel billets using the Commissioned Corps Billet Management System to assure that assignments match officer profiles to the requirements identified in the position billet; (4) Implements, manages, and monitors approved blanket personnel agreements and individual details to non-HHS governmental and non-governmental organizations; (5) Implements and administers Corps officer training, leadership, and career development programs and provides individual career counseling, pre-retirement, death benefit, and survivor benefit counseling; (6) Coordinates the Commissioned Officers Student Training Extern Program (COSTEP); (7) Establishes and monitors Commissioned Corps officer training and education requirements to ensures compliance; (8) Develops career development guidelines and materials to Regular and Ready Reserve Corps officers; (9) Ensures compliance and periodic evaluation of professional credentialing, licensing, and other regulatory compliance of Regular and Ready Reserve Corps officers; (10) Conducts periodic officer personnel reviews and performance evaluations to assure that Corps standards are maintained; and (11) Maintains the official Officer Personnel Folders (OPFs) and records for Regular and Ready Reserve Corps, excluding health (medical/dental/mental health) records.

4. Ready Reserve Affairs Branch (AMC24). (1) Advises the SG on activities related to the preparedness and activation of the Corps' Ready Reserve personnel assets; (2) Develops and maintains Ready Reserve components or assets, except for officers assigned for extended active duty periods; and (3) Conducts force management planning of all elements of the Ready Reserve assets and recommends personnel policy issuance to support the mission and goals of the Corps' Ready Reserve.

(d) Division of the Civilian Volunteer Medical Reserve Corps (ACM5): (1) Serves as the principal advisor to the SG and the ASH on Volunteer Medical Reserve Corps activities; (2) Supports local efforts to establish, implement, and sustain the Medical Reserve Corps (MRC) units nationwide; (3) Maintains close liaison with the Assistant Secretary for Preparedness and Response (ASPR) regarding MRC policy, budget, and operations; (4) Provides national leadership and coordination of the MRC program; (5) Promotes awareness and understanding of MRC units' critical role in communities across the Nation; (6) Enhances the capacity of MRC units to achieve their missions, through technical assistance and information sharing, as well as contract and grants management; and (7) Supports efforts to utilize willing, able and approved MRC members, as needed in a Federal Response.

(e) Division of Systems Integration (ACM6). (1) Coordinates the application of information technology and support for the execution of OSG activities in accordance with the policies and direction of the Office of the Secretary's Chief of Information Office (OCIO) under the Assistant Secretary for Administration (ASA); (2) Oversees information technology and systems to support recruitment, personnel operations and support, training, mobilization, deployment, and other Commissioned Corps system requirements including updates to the SG and the ASH on the migration to and implementation of systems provided by entities with expertise in uniformed services (e.g., the U.S. Coast Guard Direct Access system and TRICARE); and (3) Assures that system migration plans contain appropriately time framed goals, objectives, and metrics.

C. Under Section AC.20, Functions, delete Section ”L. Office of Commissioned Corps Force Management (ACQ)” in its entirety.

II. Delegations of Authority. Pending further re-delegation, Directives or orders made by the Secretary, ASH, or Surgeon General, all delegations and re-delegations of authority made to officials and employees of the affected organizational component will continue in effect pending further re-delegations, provided they are consistent with this reorganization.

Dated: December 27, 2011.
Kathleen Sebelius,
Secretary.

Editorial Note: This document was received at the Office of the Federal Register on May 15, 2012.

[FR Doc. 2012-12173 Filed 5-18-12; 8:45 am]

BILLING CODE 4150-42-P